ENVIRONMENTAL PROTECTION AGENCY

40 CFR Part 52

[EPA-R03-OAR-2008-0928, EPA-R03-OAR-2008-0929, EPA-R03-OAR-2008-0930; FRL-8920-2]

Approval and Promulgation of Air Quality Implementation Plans; Delaware, Maryland, Pennsylvania; Attainment Demonstration for the Philadelphia-Wilmington-Atlantic City Moderate 8-Hour Ozone Nonattainment Area; Reopening of Comment Periods

AGENCY: Environmental Protection Agency (EPA).

ACTION: Proposed rules; reopening of comment periods.

SUMMARY: EPA is reopening the comment periods for documents published on May 8, 2009 (74 FR 21588, 74 FR 21599, 74 FR 21604). In these May 8, 2009 documents, EPA proposed to disapprove the ozone attainment demonstration portion of comprehensive State Implementation Plan (SIP) revisions submitted by the States of Delaware, Maryland and Pennsylvania to meet the Clean Air Act (CAA) requirements for attaining the 8-hour ozone national ambient air quality standard (NAAQS) for the Philadelphia-Wilmington-Atlantic City moderate nonattainment area (Philadelphia Area). The comment periods on these proposed actions closed on June 8, 2009. Pursuant to requests from the State of Maryland, the Commonwealth of Pennsylvania, and the Delaware Valley Regional Planning Commission, EPA is reopening the comment periods through August 7, 2009. EPA will consider all comments submitted on these proposed actions from May 8, 2009 through August 7, 2009.

DATES: Comments must be received on or before August 7, 2009.

ADDRESSES: Submit your comments, identified by Docket ID Number EPA-R03-OAR-2008-0928 (Pennsylvania), EPA-R03-OAR-2008-0929 (Maryland), EPA-R03-OAR-2008-0930 (Delaware) by one of the following methods:

A. http://www.regulations.gov. Follow the on-line instructions for submitting comments.

B. E-mail: fernandez.cristina@epa.gov.

C. Mail: EPA-R03-OAR-2008-0928, EPA-R03-OAR-2008-0929, EPA-R03-OAR-2008-0930, Cristina Fernandez, Chief, Air Quality Planning Branch, Mailcode 3AP21, U.S. Environmental Protection Agency, Region III, 1650 Arch Street, Philadelphia, Pennsylvania 19103.

D. Hand Delivery: At the previously-listed EPA Region III address. Such deliveries are only accepted during the normal hours of operation, and special arrangements should be made for deliveries of boxed information.

Instructions: Direct your comments to Docket ID No. EPA-EPA-R03-OAR-2008-0928, EPA-R03-OAR-2008-0929, EPA-R03-OAR-2008-0930. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an anonymous access system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of Delaware's State submittals are available at the Delaware Department of Natural Resources & Environmental Control, 89 Kings Highway, P.O. Box 1401, Dover, Delaware 19903. Copies of Maryland's State submittals are available at the Maryland Department of the Environment, 1800 Washington Boulevard, Suite 705, Baltimore, Maryland 21230. Copies of Pennsylvania's State submittals are available at the Pennsylvania Department of Environmental Protection, Bureau of Air Quality Control, P.O. Box 8468, 400 Market Street, Harrisburg, Pennsylvania 17105.

FOR FURTHER INFORMATION CONTACT: Cristina Fernandez, (215) 814-2178, or by e-mail at fernandez.cristina@epa.gov. Please note that while questions on the May 8, 2009 proposed rules for the Philadelphia area may be posed via telephone and e-mail, formal comments must be submitted in writing, as indicated in the ADDRESSES section of this document.

Dated: June 11, 2009.
William C. Early,
Acting Regional Administrator, Region III.

[FR Doc. E9-14602 Filed 6-19-09; 8:45 am]

BILLING CODE 6560-50-P